ENVIRONMENTAL PROTECTION AGENCY

[FRL-8544-8]

EPA Science Advisory Board; Notification of a Public Teleconference of the Science Advisory Board Environmental Economics Advisory Committee (EEAC)

AGENCY: Environmental Protection Agency (EPA).

ACTION: Notice.

SUMMARY: The EPA's Science Advisory Board (SAB) Staff Office is announcing a public teleconference of the SAB Environmental Economics Advisory Committee (EEAC) to receive a briefing from the EPA National Center for Environmental Economics (NCEE) regarding its upcoming advisory requests. The EEAC will also discuss plans for possible self-initiated projects.

DATES: The teleconference will be held from 12 p.m.—2 p.m. Eastern Time on April 14, 2008.

FOR FURTHER INFORMATION CONTACT: Any member of the public wishing further information regarding the public teleconference and call-in numbers may contact Dr. Holly Stallworth, Designated Federal Officer (DFO), U.S. EPA Science Advisory Board Staff Office by telephone/voice mail at (202) 343-9867, or via e-mail at stallworth.holly@epa.gov. The SAB mailing address is: U.S. EPA, Science Advisory Board (1400F), 1200 Pennsylvania Avenue, NW., Washington, DC 20460. General information about the SAB, as well as any updates concerning the meeting announced in this notice, may be found in the SAB Web site at: http://www.epa.gov/sab.

SUPPLEMENTARY INFORMATION: Pursuant to the Federal Advisory Committee Act, Public Law 92-463, notice is hereby given that the SAB Environmental Economics Advisory Committee will hold a public teleconference to consider topics for possible self-initiated advice to EPA. The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies.

Background: The mission of the EEAC is to provide independent advice to the EPA Administrator, through the chartered SAB, regarding the science and research to assess public benefits and costs of EPA's decisions. The EEAC has provided advice on a wide range of topics, including the valuation of mortality risk reduction as well as other non-market benefits. The NCEE will brief EEAC on its request for advice on its guidelines for cost-effectiveness analysis, the valuation of mortality risk reduction and other proposed changes to EPA's guidelines for economic analyses. In addition, the EEAC will consider possible topics for self-initiated advice to the EPA Administrator, including policy design for global climate change, the effectiveness of voluntary programs such as water quality trading, and the accuracy and reliability of stated preference versus revealed preference approaches to non-market valuation.

Availability of Meeting Materials: Materials in support of this meeting, including an agenda and outline of topics for discussion will be placed on the SAB Web site at: http://www.epa.gov/sab/ prior to the meeting.

Procedures for Providing Public Input: Interested members of the public may submit relevant written or oral information for the SAB to consider during the advisory process.

Oral Statements: In general, individuals or groups requesting an oral presentation at a public teleconference will be limited to five minutes per speaker, with no more than a total of one hour for all speakers. Interested parties should contact Dr. Stallworth, DFO, at the contact information noted above, to be placed on the public speaker list for the April 14, 2008 teleconference. Written Statements: Written statements should be received in the SAB Staff Office by April 7, 2008 so that the information may be made available to the SAB for their consideration prior to this teleconference. Written statements should be supplied to the DFO in the following formats: One hard copy with original signature, and one electronic copy via e-mail to stallworth.holly@epa.gov (acceptable file format: Adobe Acrobat PDF, WordPerfect, MS Word, MS PowerPoint, or Rich Text files in IBM-PC/Windows 98/2000/XP format).

Meeting Access: For information on access or services for individuals with disabilities, please contact Dr. Stallworth at (202) 343-9867 or stallworth.holly@epa.gov. To request accommodation of a disability, please contact Dr. Stallworth, preferably at least 10 days prior to the meeting to give EPA as much time as possible to process your request.

Dated: March 14, 2008.
Anthony F. Maciorowski,
Deputy Director, EPA Science Advisory Board Staff Office.

[FR Doc. E8-5756 Filed 3-20-08; 8:45 am]

BILLING CODE 6560-50-P